DEPARTMENT OF COMMERCE

National Oceanic and Atmospheric Administration

RIN 0648-XC447

North Pacific Fishery Management Council; Public Meetings

AGENCY: National Marine Fisheries Service (NMFS), National Oceanic and Atmospheric Administration (NOAA), Commerce.

ACTION: Meetings of the North Pacific Fishery Management Council and its advisory committees.

SUMMARY: The North Pacific Fishery Management Council (Council) and its advisory committees will hold public meetings, February 6-12, 2013 in Portland, OR.

DATES: The meetings will be held on Wednesday, February 6, 2013 through Tuesday, February 12, 2013. See SUPPLEMENTARY INFORMATION for specific dates and times.

ADDRESSES: The meetings will be held at the Benson Hotel, 309 SW Broadway, Mayfair Ballroom, Portland, OR.

Council address: North Pacific Fishery Management Council, 605 W. 4th Avenue, Suite 306, Anchorage, AK 99501-2252.

FOR FURTHER INFORMATION CONTACT: David Witherell, Council staff; telephone: (907) 271-2809.

SUPPLEMENTARY INFORMATION: The Council will begin its plenary session at 8 a.m. on Wednesday, February 6 continuing through Tuesday, February 12, 2013. The Scientific Statistical Committee (SSC) will begin at 8 a.m. on Monday, February 4 and continue through Wednesday, February 6, the Council's Advisory Panel (AP) will begin at 8 a.m. on Tuesday, February 5 and continue through Saturday, February 9. The Ecosystem Committee will meet February 5, from 8:30 a.m. to 12:30 p.m. The Enforcement Committee will meet 1 p.m. to 5 p.m. (T). All meetings are open to the public, except executive sessions.

Council Plenary Session: The agenda for the Council's plenary session will include the following issues. The Council may take appropriate action on any of the issues identified.

1. Executive Director's Report (including status report on stock structure workshop; recent legislation regarding Amendment 80 and American Fisheries Act (AFA) vessels):

NMFS Management Report (including NOAA Report on Deep Sea Coral Strategic Plan, update on coral petition listing, update on observer program)

ADF&G Report

NOAA Enforcement Report

United States Coast Guard (USCG) Report (Report on Aleutian Island Risk Assessment)

United States Fish & Wildlife Service (USFWS) Report

International Pacific Halibut Commission (IPHC) Report

Protected Species Report (Report on Steller Sea Lion (SSL) Environmental Impact Statement (EIS); action as necessary)

2. Habitat Issues: Final action on Habitat Area of Particular Concern (HAPC)—Skate egg concentration areas; Review discussion paper on Bristol Bay red king crab.

3. Groundfish Issues: Discussion paper on crab bycatch limits in Bering Sea Aleutian Island (BSAI) groundfish fisheries; Initial review of BSAI Flatfish Specifications Flexibility. (T); Initial review of Gulf of Alaska (GOA) Pacific cod sideboards for Freezer Longliners (FFL); Initial review of AFA Vessel Replacement GOA Sideboards.

4. GOA Trawl Issues: Discussion paper on Central Gulf of Alaska (CGOA) Trawl Economic Data Collection; Discussion paper on CGOA Trawl Catch Shares; Review and discuss Western GOA issues and discuss next steps.

5. BSAI Crab Issues: Final Action on BSAI Crab Right of First Refusal (ROFR); Initial review of BSAI Crab active participation requirements. Discussion paper on BSAI Crab Cooperative Provisions for Crew.

6. Miscellaneous Issues: Discussion paper on the definition of a Fishing Guide; NMFS discussion paper on Halibut/Sablefish Individual Fishing Quota (IFQ) leasing prohibition. (T)

7. Staff Tasking: Review Committees and tasking.

The SSC agenda will include the following issues:

1. Discussion paper on Bristol Bay Red King crab

2. Bering Sea Flatfish Specifications Flexibility

3. AFA Vessel Replacement GOA Sideboards

4. CGOA Trawl Economic Data Collection

5. BSAI Crab ROFR

6. BSAI Crab active participation

The Advisory Panel will address most of the same agenda issues as the Council except B reports. The Agenda is subject to change, and the latest version will be posted at http://www.alaskafisheries.noaa.gov/npfmc/.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: January 16, 2013.
Tracey L. Thompson,
Acting Deputy Director, Office of Sustainable Fisheries, National Marine Fisheries Service.

[FR Doc. 2013-01127 Filed 1-18-13; 8:45 am]

BILLING CODE 3510-22-P